DEPARTMENT OF COMMERCE

National Oceanic and Atmospheric Administration

50 CFR Part 660

[Docket No. 991221344-9344-01; I.D. 121099A]

RIN 0648-AN44

Fisheries Off West Coast States and in the Western Pacific; Western Pacific Pelagic Fisheries; Hawaii-based Pelagic Longline Area Closure

AGENCY: National Marine Fisheries Service (NMFS), National Oceanic and Atmospheric Administration (NOAA), Commerce.

ACTION: Emergency rule; extension of expiration date.

SUMMARY: This action extends an emergency rule, now in effect, that closes certain waters to fishing by vessels engaged in the Hawaii-based pelagic longline fishery. The rule was published in the Federal Register on December 27, 1999, in response to the Order Setting Terms of Injunction issued on November 23, 1999, by the U.S. District Court, District of Hawaii, (Court). The area closure is intended to reduce adverse impacts to sea turtles by restricting the activities of the Hawaiian longline fishery while an environmental impact statement (EIS) is being prepared for the Fishery Management Plan for Pelagic Fisheries of the Western Pacific Region (FMP). Extension of the emergency rule will maintain the temporary area closure until December 23, 2000, or until new time and area closures, as imposed by the Court, are implemented by NMFS.

DATES: This emergency rule is effective 12:02 a.m., local time, June 26, 2000, through 12:01 a.m., local time, December 23, 2000.

ADDRESSES: Copies of the environmental assessment prepared for the emergency rule may be obtained from Dr. Charles Karnella, Administrator, Pacific Islands Area Office (PIAO), NMFS, 1601 Kapiolani Blvd., Suite 1110, Honolulu, HI, 96814-4700.

FOR FURTHER INFORMATION CONTACT: Alvin Katekaru or Marilyn Luipold, PIAO, 808-973-2937.

SUPPLEMENTARY INFORMATION: NMFS is extending an emergency rule promulgated on December 23, 1999 (64 FR 72290, December 27, 1999), which otherwise would expire on June 26, 2000. Extension of this rule is authorized under section 305(c)(3)(B) of the Magnuson-Stevens Fishery Conservation and Management Act. This rule temporarily amends implementing regulations of the FMP by prohibiting vessels registered for use with Hawaii longline limited access permits from fishing with longline gear within the area north of 28° N. lat. and between 168° W. long. and 150° W. long. It also prohibits vessels registered for use with receiving vessel permits from receiving from another vessel pelagic management unit species harvested with longline gear, if these species were harvested or their transfer to another vessel occurs within the closed area. No vessel may land or transship, shoreward of the outer boundary of the U.S. exclusive economic zone around Hawaii, pelagic management unit species that were harvested with longline gear within the closed area.

The area closure is mandated by the Court's Order Setting Terms of Injunction dated November 23, 1999. The intent of the area closure is to reduce adverse impacts on sea turtles, pending the completion of an EIS on the pelagic fisheries managed under the FMP. Background information on the area closure and emergency rule appears in the emergency rule published in the Federal Register on December 27, 1999 (64 FR 72290), and is not repeated here.

This emergency closure was implemented to comply with Judge Ezra's Court Order, and affords protection to leatherback and other sea turtles incidentally taken by the Hawaii-based pelagic longline fleet while further analysis of methods to mitigate these interactions is being conducted. There are a total of 164 permits issued for this limited entry fishery, with active fishing by 114 vessels during 1999. All permit holders may be affected by the extension of this closure. There are no reporting, recordkeeping, or compliance requirements associated with this closure, or its extension. The extension of this closure does not duplicate, overlap, or conflict with any Federal rules. The alternative of not extending this closure was rejected on the basis that it would not meet the Court Order or its conservation objectives.

This extension of the emergency rule will maintain the current area closure for an additional 180 days unless, prior to that expiration date, NMFS implements a set of new time and area closures imposed by the Court. If the Court chooses to continue the current closure, NMFS could implement an amendment to the FMP and make this closure effective until the EIS is completed, or until further notice.

Classification

The Assistant Administrator for Fisheries, NOAA, has determined that extension of the emergency rule is necessary to comply with a valid order of the U.S. District Court.

This emergency rule has been determined to be not significant for purposes of Executive Order 12866.

Authority: 16 U.S.C. 1801 et seq.

Dated: June 14, 2000.
Andrew A. Rosenberg,
Deputy Assistant Administrator for Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.22, new paragraphs (z) through (bb) are added to read as follows:

660.22 Prohibitions.

* * * * *

(z) Fish with a vessel registered for use under a Hawaii longline limited access permit using longline gear within the area north of 28° N. lat. and between 168° W. long. and 150° W. long.

(aa) Land or transship shoreward of the outer boundary of the EEZ around Hawaii Pacific pelagic management unit species that were harvested with longline gear within the area north of 28° N. lat. and between 168° W. long. and 150° W. long.

(bb) Use a receiving vessel registered for use under a receiving vessel permit described in § 660.21(c) to receive from another vessel Pacific pelagic management unit species harvested with longline gear, if the fish were harvested or the transfer occurs within the area north of 28° N. lat. and between 168° W. long. and 150° W. long.

* * * * *

[FR Doc. 00-15411 Filed 6-16-00; 8:45 am]

BILLING CODE 3510-22-F